DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of November 17, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”).

Dated: August 10, 2017.
Roy E. Wright,
Deputy Associate Administrator for Insurance and Mitigation, Department of Homeland Security, Federal Emergency Management Agency.

Community | Community map repository address
Long County, Georgia and Incorporated Areas
Docket No.: FEMA-B-1642
Unincorporated Areas of Long County | Long County Code Enforcement Office, 285 South McDonald Street, Ludowici, GA 31316.
Alamance County, North Carolina and Incorporated Areas
Docket No.: FEMA-B-1440
City of Burlington | City Hall, Engineering Department, 425 South Lexington Avenue, Burlington, NC 27215.
City of Graham | Planning Department, 201 South Main Street, Graham, NC 27253.
City of Mebane | Planning Department, 106 East Washington Street, Mebane, NC 27302.
Town of Elon | Town Hall, 104 South Williamson Avenue, Elon, NC 27244.
Town of Gibsonville | Planning Department, 129 West Main Street, Gibsonville, NC 27249.
Town of Green Level | Town Hall, 2510 Green Level Church Road, Green Level, NC 27217.
Town of Haw River | Town Hall, 403 East Main Street, Haw River, NC 27258.
Town of Ossipee | Ossipee Town Hall, 2608 Ossipee Front Street, Elon, NC 27244.
Town of Swepsonville | Swepsonville Town Hall, 2747 Darrell Newton Drive, Graham, NC 27253.
Unincorporated Areas of Alamance County | Alamance County Planning Department, 215 North Graham-Hopedale Road, Burlington, NC 27217.
Village of Alamance | Alamance Village Hall, 2874 Rob Shepard Drive, Burlington, NC 27215.
Chatham County, North Carolina and Incorporated Areas *
Docket No.: FEMA-B-1440
Town of Pittsboro | Planning Department, 635 East Street, Pittsboro, NC 27312.
Town of Siler City | Planning Department, 311 North Second Avenue, Room 301, Siler City, NC 27344.
Unincorporated Areas of Chatham County | Chatham County Planning Department, 80-A East Street, Pittsboro, NC 27312.
Guilford County, North Carolina and Incorporated Areas
Docket No.: FEMA-B-1445
Unincorporated Areas of Guilford County | Guilford County Planning Department, 400 West Market Street, Greensboro, NC 27402.
Orange County, North Carolina and Incorporated Areas
Docket No.: FEMA-B-1440
Town of Carrboro | Planning Department, 301 West Main Street, Carrboro, NC 27510.
Town of Chapel Hill | Stormwater Management Program Office, 208 North Columbia Street, Chapel Hill, NC 27514.
Town of Hillsborough | Town Hall, 101 East Orange Street, Hillsborough, NC 27278.
Unincorporated Areas of Orange County | Orange County Planning Department, 131 West Margaret Lane, Hillsborough, NC 27278.
* Town of Cary has not been included on this final notice as it is a multi-county community that will be mapped entirely within Wake County, North Carolina and Incorporated Areas. The final notice for this community, covering both Wake and Chatham Counties, will be included with the Wake County study effective date final notice, and not this November 17, 2017 effective date final notice.

[FR Doc. 2017-18914 Filed 9-8-17; 8:45 am]

BILLING CODE 9110-12-P